NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208)—University of Utah Site Visit.

Date and Time: February 20, 2018; 8:30 a.m.-6:00 p.m., February 21, 2018; 8:30 a.m.-3:00 p.m.

Place: University of Utah, Salt Lake City, UT 84112.

Type of Meeting: Part-Open.

Contact Person: Jean Cottam-Allen, Program Director for Physics Frontier Centers, Division of Physics, National Science Foundation, 2415 Eisenhower Avenue, Room W9217, Alexandria, VA 22314; Telephone: (703) 292-8783.

Purpose of Meeting: Site visit to provide an evaluation of the progress of the projects at the host site for the Division of Physics at the National Science Foundation.

Agenda

February 20, 2018; 8:30 a.m.-6:00 p.m.

08:30 a.m.-09:30 a.m. Greetings and introductions

09:30 a.m.-10:15 a.m. P. Sokolsky (composition, anistotropy, sFLASH)

10:15 a.m.-10:30 a.m. Break

10:30 a.m.-12:00 p.m. D. Bergman and G. Thomson presentations

12:00 p.m.-1:00 p.m. Lunch (panel meets with students and post docs)

1:00 p.m.-2:15 p.m. J. Betz and C. Jui presentations

2:15 p.m.-2:30 p.m. Break

2:30 p.m.-4:00 p.m. J. Calahan and C. Jui discussions and Thomson (summary)

4:00 p.m.-5:00 p.m. Panel meeting and questions on experiments

5:00 p.m.-6:00 p.m. Poster Session (Greg, Jackson, JiHee, Jon Paul and Bill)

6:30 p.m. Panel working Dinner—Closed Session

February 21, 2018; 8:30 a.m.-6:00 p.m.

08:30 a.m.-10:00 a.m. PI's present responses to panel questions

10:00 a.m.-10:30 a.m. Break

10:30 a.m.-3:00 p.m. Panel working session—Closed Session

Reason for Closing: Topics to be discussed and evaluated during the site review will include information of a proprietary or confidential nature, including technical information and information on personnel. These matters are exempt under 5 U.S.C. 552b(c), (4) and (6) of the Government in the Sunshine Act.

Dated: January 19, 2018.
Suzanne Plimpton,
Acting Committee Management Officer.

[FR Doc. 2018-01325 Filed 1-24-18; 8:45 am]

BILLING CODE 7555-01-P